DEPARTMENT OF VETERANS AFFAIRS

Veterans' Rural Health Advisory Committee; Notice of Meeting

The Department of Veterans Affairs (VA) gives notice under Public Law 92-463 (Federal Advisory Committee Act) that the Veterans' Rural Health Advisory Committee will hold a meeting on September 2-3, 2009, in Capitol Room B at the Hyatt Regency Washington on Capitol Hill, 400 New Jersey Avenue, NW., Washington, DC. The September 2 session will be from 8 a.m. to 4 p.m. and on September 3 the session will be from 8 a.m. to 11:30 a.m. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

On September 2, the Committee will hear from VA officials such as the Director, Office of Rural Health, the Chief of Staff, a telehealth professional from the Office of Care Coordination, and a member of the Telehealth Outreach Clinic staff.

On September 3, the Committee will hear from VA officials such as the Chief Consultant on Telehealth from the Office of Care Coordination and a representative of the Office of General Counsel on the annual ethics review.

Interested parties should express in writing their desire to address the Committee not less than 10 days in advance of the meeting to Ms. Kara Hawthorne, Designated Federal Officer, 10A5, Department of Veterans Affairs, 810 Vermont Avenue, NW., Washington, DC 20420, or by e-mail at rural.health.inquiry@va.gov.

Dated: August 10, 2009.
By Direction of the Secretary.
E. Philip Riggin,
Committee Management Officer.

[FR Doc. E9-19450 Filed 8-12-09; 8:45 am]

BILLING CODE 8320-01-P